DEPARTMENT OF HOMELAND SECURITY

Bureau of Customs and Border Protection

Retraction of Revocation Notice

AGENCY: Bureau of Customs and Border Protection, U.S. Department of Homeland Security.

ACTION: General notice.

SUMMARY: The following Customs and Border Protection National Permits were erroneously included in a list of revocations. See, Notice of Cancellation of Customs Broker Permit, dated May 4, 2004 (69 FR 24656).

Name | Permit No.
D. J. Powers Company, Inc. | 99-00012
Florence S. Hillman
dba Hillman International Services | 99-00580
Rotra Brokerage Services Inc. | 99-00162
John S. James Company | 99-00155
Page International | 99-00285
Cargo Brokers International, Inc. | 99-00449
Jay A. Mittleman | 99-00123

The above-identified National Permits remain valid.

Dated: June 2, 2004.
Jayson P. Ahern,
Assistant Commissioner, Office of Field Operations.

[FR Doc. 04-13127 Filed 6-9-04; 8:45 am]

BILLING CODE 4820-02-P